DEPARTMENT OF HOUSING AND URBAN DEVELOPMENT

[Docket No. FR-4565-N-11]

Notice of Proposed Information Collection: Comment Request; Application and Re-certification Packages for Approval of Nonprofit Organizations in FHA Activities

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: June 23, 2000.

ADDRESSES: Interested persons are invited to submit comments regarding this proposal. Comments should refer to the proposal by name and/or OMB Control Number and should be sent to: Wayne Eddins, Reports Management Officer, Department of Housing and Urban Development, 451 7th Street, SW, L'Enfant Plaza Building, Room 8202, Washington, DC 20410.

FOR FURTHER INFORMATION CONTACT: Vance Morris, Director, Office of Single Family Production, Department of Housing and Urban Development, 451 7th Street SW, Room 9266, Washington, DC 20410, telephone (202) 708-2700 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

The Notice also lists the following information:

Title of Proposal: Application and Re-certification Packages for Approval of Nonprofit Organizations for FHA Activities.

OMB Control Number, if applicable: 2502-0540.

Description of the need for the information and proposed use: This information collection is an application and/or re-certification for nonprofit organizations seeking approval to participate as FHS insured mortgagors or provide down payment assistance to homebuyers. This information collection will provide standardized information and procedures to ensure equal treatment of applicants throughout the nation and give HUD sufficient information to ascertain an organization's management and fiscal abilities.

Agency form numbers, if applicable:

None.

Estimation of the total numbers of hours needed to prepare the information collection including number of respondents, frequency of response, and hours of response: The estimated number of respondents are 2,500; total annual responses equals 5,750; annual burden hours are estimated to be 81,000, and the frequency of responses is on occasion and biannually.

Status of the proposed information collection: Extension, without change.

Authority: The Paperwork Reduction Act of 1995, 44 U.S.C., Chapter 35, as amended.

Dated: April 17, 2000.
William C. Apgar,
Assistant Secretary of Housing-Federal Housing Commissioner.

[FR Doc. 00-10066 Filed 4-21-00; 8:45 am]

BILLING CODE 4210-27-M